DEPARTMENT OF THE INTERIOR

Fish and Wildlife Service

Notice of Availability of a Draft Revised Recovery Plan for the Chittenango Ovate Amber Snail for Review and Comment

AGENCY: Fish and Wildlife Service, Department of the Interior.

ACTION: Notice of availability.

SUMMARY: The U.S. Fish and Wildlife Service (Service) announces availability for public review of a draft revised recovery plan for the Chittenango ovate amber snail (Novisuccinea chittenangoensis). This species is federally listed as threatened under the Endangered Species Act of 1973, as amended (Act) (16 U.S.C. 1531 et seq.). The Service solicits review and comment from the public on this draft plan.

DATES: Comments on the draft recovery plan received on or before January 5, 2004, will be considered by the Service.

ADDRESSES: Persons wishing to review the draft recovery plan may obtain a copy through the following means:

1. Through a written request to the Field Supervisor, U.S. Fish and Wildlife Service, New York Field Office, 3817 Luker Road, Cortland, New York 13045.

2. By telephone: 607-753-9334 or fax 607-753-9699.

3. By e-mail to Robyn_Niver@fws.gov.

4. By accessing the Field Office Web site: http://nyfo.fws.gov.

Copies of the draft recovery plan may also be viewed at two public libraries: Moon Library, State University of New York College of Environmental Science and Forestry, 1 Forestry Drive, Syracuse, New York 13210 (Telephone: 315-470-6726).

Sullivan Free Library, 519 McDonald Street (Back side of Genesee Street), Chittenango, New York 13037 (Telephone: 615-687-6331).

FOR FURTHER INFORMATION CONTACT: Ms. Robyn Niver, U.S. Fish and Wildlife Service, New York Field Office, 3817 Luker Road, Cortland, New York 13045.

SUPPLEMENTARY INFORMATION:

Background

Restoring an endangered or threatened animal or plant to the point where it is again a secure, self-sustaining member of its ecosystem is a primary goal of the Service's endangered species program. To help guide the recovery effort, the Service is working to prepare recovery plans for most of the federally listed species native to the United States. Recovery plans describe actions necessary for the conservation of the species, establish criteria which, when met, would result in a determination that the species no longer needs the protection of the Act, and provide estimates of the time and cost for implementing the needed recovery measures.

The Act requires recovery plans for listed species unless such a plan would not promote the conservation of a particular species. Section 4(f) of the Act, as amended in 1988, requires that public notice and opportunity for public review and comment be provided during recovery plan development. The Service will consider all information received during a public comment period when preparing each new or revised recovery plan for approval. The Service and other Federal agencies will also take these comments into consideration in the course of implementing approved recovery plans.

The Chittenango ovate amber snail (Novisuccinea chittenangoensis) was listed as a threatened species in July 1978, and the initial recovery plan for the species was completed in March 1983. Since its discovery in 1905, only one extant N. chittenangoensis colony has been verified, from a site within the Chittenango Falls State Park in Madison County, New York. The Chittenango ovate amber snail was listed due to its rarity and population decline. Since listing, habitat protection and captive propagation measures have been implemented, but the species' status has become exceedingly precarious. The primary threats to the snail are its small population size and limited distribution as well as an undefined negative interaction with an introduced snail, Succinea sp. B. Additionally, potential threats persist from habitat changes and inadvertent human disturbance.

The Chittenango ovate amber snail is a terrestrial species that requires the cool, mild-temperature, moist conditions provided by the waterfalls and mist in its environment. Its habitat lies within a ravine at the base of a 167-foot waterfall, and the ledges where it is found comprise an early successional sere that is periodically rejuvenated to a bare substrate by floodwaters. The species requires a substrate rich in calcium carbonate and appears to prefer green vegetation such as the various mosses, liverworts, and other low herbaceous vegetation found within the spray zone adjacent to the falls. Clean water may be necessary to maintain essential habitat, although water quality may have only an indirect effect on the snail.

The recovery goal for the Chittenango ovate amber snail is to achieve long-term viability of the species in the wild, thereby allowing it to be taken off the Federal List of Endangered and Threatened Wildlife. The first phase of recovery for N. chittenangoensis will involve stabilizing the extant population at Chittenango Falls. To accomplish this, a habitat management/protection plan for Chittenango Falls is needed, along with research into the species' biological requirements and genetic status as well as possible means of controlling the competing Succinea sp. B and abating any additional threats to the snail and its habitat. Given the grave uncertainty about the in situ survival prospects of this snail, captive propagation is also viewed as essential for the species' stabilization.

Once the N. chittenangoensis population at Chittenango Falls is stabilized or increased, the second recovery phase for the species will involve establishing additional Chittenango ovate amber snail subpopulations at the Falls. In conjunction with long-term abatement of threats to the species, this should safeguard the species from extinction caused by highly localized events. Long-term maintenance of ex situ populations will also help ensure the species' survival.

Public Information Solicited

The Service solicits public comments on the recovery plan described. All comments received by the date specified will be considered prior to approval of the plan. Written comments and materials regarding the plan should be addressed to the Field Supervisor (see ADDRESSES section). Comments and materials received will be available, by appointment, for public inspection during normal business hours at the above address.

Authority: The authority for this action is section 4(f) of the Endangered Species Act, 16 U.S.C. 1533(f).

Dated: November 7, 2003.
Richard O. Bennett,
Acting Regional Director, Region 5, Fish and Wildlife Service, Department of the Interior.

[FR Doc. 03-30254 Filed 12-4-03; 8:45 am]

BILLING CODE 4310-55-P